DEPARTMENT OF JUSTICE

National Institute of Corrections

Solicitation for a Cooperative Agreement: Pretrial Technical Assistance for Evidence-Based Decision Making in Local Criminal Justice Systems

AGENCY: National Institute of Corrections, U.S. Department of Justice.

ACTION: Solicitation for a Cooperative Agreement.

SUMMARY: The National Institute of Corrections (NIC) Community Services Division is soliciting proposals from organizations, groups, or individuals to enter into a cooperative agreement with NIC for up to 12 months beginning in September 2012. Work under this cooperative agreement is part of a larger NIC initiative, Evidence-Based Decision Making (EBDM) in Local Criminal Justice Systems. Work under this cooperative agreement will be coordinated with recipients of other cooperative agreements providing services under Phase III of this initiative.

Specifically, under this cooperative agreement, the awardee will provide technical assistance to seven Phase III sites that have already been identified. During Phase II of the EBDM planning, each of seven sites identified change strategies based on their individual system planning activities. These change strategies are critical to meeting their system's harm reduction goals.

The technical assistance from this award will be targeted toward expanding the knowledge and use of legal and evidence-based pretrial risk assessment and release practices among criminal justice stakeholders.

DATES: Applications must be received by 4 p.m. (E.D.T.) on Friday, July 20, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front desk, dial 7-3106, extension 0 for pickup.

Faxed applications will not be accepted. Electronic applications can be submitted via http://www.grants.gov.

FOR FURTHER INFORMATION CONTACT: A copy of this announcement can be downloaded from the NIC Web site at www.nicic.gov/cooperativeagreements.

All technical or programmatic questions concerning this announcement should be directed to Lori Eville, Correctional Program Specialist, National Institute of Corrections, at leville@bop.gov. In addition to direct reply, all questions and answers will be posted on the NIC Web site at www.nicic.gov for public review (the names of those submitting questions will not be posted). The Web site will be updated regularly and postings will remain on the Web site until the closing date of this cooperative agreement solicitation. Only questions received by 12 p.m. (E.D.T.) on July 15, 2012 will be posted on the NIC Web site.

SUPPLEMENTARY INFORMATION: Overview: The overall goal of the EBDM Initiative is to establish and test the links (information tools and protocols) between local criminal justice decisions and the application of human and organizational change principles (evidence-based practices) in achieving measurable reductions in pretrial misconduct and post-conviction risk of reoffending. The unique focus of the initiative is the review of locally developed criminal justice strategies that guide practice within existing sentencing statutes and rules. The initiative intends to (1) improve the quality of information that leads to making individual case decisions in local systems and (2) engage these systems as policymaking bodies to collectively improve the effectiveness and capacity of their decision making related to pretrial release/sentencing options. Local officials involved in the initiative include judges, prosecutors, public defenders, police, human service providers, county executives, and administrators of jail, probation, and pretrial services agencies.

Local criminal justice decisions are defined broadly to include dispositions regarding arrest, cite and release or to custody; pretrial release or detention and setting of bail and pretrial release conditions; pretrial diversion; charging and plea bargaining; sentencing of adjudicated offenders regarding use of community and custody options; and responses to violations of conditions of pretrial release and community sentences.

Background: In June 2008, the National Institute of Corrections (NIC) launched a multi-phased initiative and awarded a cooperative agreement to address evidence-based decision making in local criminal justice systems. The goal of Phase I of the initiative was to build a systemwide framework (from arrest through final disposition and discharge) that would result in more collaborative, evidence-based decision making and practices in local criminal justice systems. This effort was grounded in two decades of research on the factors that contribute to criminal reoffending and the methods a justice system can employ to interrupt the cycle of reoffense. Today, the initiative seeks to equip criminal justice policymakers in local communities with information, processes, and tools that will result in measurable reductions of pretrial misconduct and post-conviction reoffending.

The principle product of Phase I of this initiative was the Evidence-Based Decision Making Framework in Local Criminal Justice Systems. The Framework identifies the key structural elements of a system informed by evidence-based practice. It defines a vision of safer communities. It puts forward the belief that risk and harm reduction are fundamental goals of the justice system and that these can be achieved without sacrificing offender accountability or other important justice system outcomes.

The Framework both acknowledges the importance of the key premises and values underlying our criminal justice system and provides a set of principles to guide evidence-based decision making within that context; the principles themselves are evidence-based. The Framework also highlights the groundbreaking research that demonstrates pretrial misconduct and offender recidivism can be reduced. The Framework identifies the key stakeholders who must be actively engaged in a collaborative partnership if an evidence-based system of justice is to be achieved. It outlines some of the most difficult challenges agencies face as they seek to implement such an approach deliberately and systematically in their local communities. A copy of the Evidence-Based Decision Making Framework document can be downloaded online at http://nicic.gov/Library/024372.

In August 2010, NIC launched Phase II (Planning and Engagement) of the Evidence-Based Decision Making in Local Criminal Justice Systems Initiative by selecting seven jurisdictions to serve as EBDM seed sites. Those sites are Mesa County, Colorado; Grant County, Indiana; Ramsey County, Minnesota; Yamhill County, Oregon; City of Charlottesville/County of Albemarle, Virginia; Eau Claire County, Wisconsin; Milwaukee County, Wisconsin.

The cooperative agreement awardees of Phase II provided extensive technical assistance to each of the seven seed sites for a period of 10 months. The overarching purpose of the technical assistance was to (1) Develop a shared philosophy and vision for the local criminal justice system; (2) Determine the capacity to collect and analyze data, including the quality of the data, to support ongoing analysis of the effectiveness of current and future policies, practices, and services designed to achieve specific risk and harm reduction outcomes; and (3) Change in knowledge, skills, and abilities regarding research-based risk reduction strategies.

Each site received technical assistance that was specific to the initiative and individualized to its system's needs. Monthly site visits from an assigned technical assistance site coordinator led the jurisdictions through the attainment of specific activities and goals. The Roadmap to Phase II outlines the major objectives that the technical assistance providers guided the seeds sites through. A copy of the roadmap is available online at http://static.nicic.gov/Public/roadmap_phase_ii_final_2.docx.

The technical assistance was intended to lead to the following outcomes: Build a genuine, collaborative policy team; Build individual agencies that are collaborative and in a state of readiness for change; Understand current practice within each agency/across the system; Understand and have the capacity to implement evidence-based practices; Establish performance measurements/outcomes/system scorecard; Develop a system logic model; Engage/gain support of the community; and Develop a strategic action plan.

All seven sites completed Phase II in October 2011. Each jurisdiction submitted an application for acceptance into Phase III of the initiative. Within their applications are a detailed strategic action plan and their system's logic model. The action plan and logic model are the foundation of implementation activities of the Phase III technical assistance.

Scope of Work: The intent of this request for proposal is to expand the knowledge and use of legal and evidence-based pretrial risk assessment and release practice among criminal justice stakeholders in their local jurisdiction. The cooperative agreement awardee will design and deliver technical assistance to seven specific EBDM sites: Grant County, IN; Yamhill County, OR; Charlottesville, VA; and Ramsey County, MN; Mesa County, CO; Milwaukee County, WI; and Eau Claire County, WI.

The technical assistance will be guided by each site's strategic action plan, logic model, and other specialized assistance required to reach the jurisdiction's identified outcomes. The applicant should demonstrate a strong background in working with criminal justice stakeholders in the topics of legal and evidence-based practices in pretrial release. The applicant will draw from existing research and legal principles related specifically to pretrial detention and release. The final training products may be used in future NIC trainings with similar audiences.

Project Deliverables: (1) Develop a training curriculum and provide evidence-based pretrial release training and tools to each of the assigned EBDM technical assistance site coordinators. (2) Complete pretrial program assessment, including jail population analysis, if determined necessary at each site. (3) Develop training curriculum and provide training targeted to judges, prosecutors and defense attorneys who focus on the legal foundations of pretrial release and evidence-based pretrial practices. (4) Provide training and strategic planning with criminal justice stakeholders to increase their use of non-financial pretrial release based on actuarial pretrial risk assessment. Risk assessment should be based on factors known to increase the probability of selecting those pretrial defendants who show the lowest risk of pretrial misconduct.

Meetings: The cooperative agreement awardee will participate in an initial meeting with NIC staff for a project overview and preliminary planning meeting within 2 weeks of the award. The awardee will meet with NIC staff routinely to discuss the activities noted in the timeline during the course of the cooperative agreement. Meetings will be held no less than quarterly and may be conducted via webinar or in person as agreed upon by NIC and the awardee. Application Requirements: Applications should be concisely written, typed, double-spaced, no more than 30 pages, and reference the project by the “NIC Opportunity Number” and Title in this announcement. The package must include: A cover letter that identifies the audit agency responsible for the applicant's financial accounts as well as the audit period or fiscal year that the applicant operates under (e.g., July 1 through June 30); a program narrative in response to the statement of work, and a budget narrative explaining projected costs. The following forms must also be included: OMB Standard Form 424, Application for Federal Assistance; OMB Standard Form 424A, Budget Information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/general/certif-frm.pdf.).

Applications may be submitted in hard copy, or electronically via http://www.grants.gov. If submitted in hard copy, there needs to be an original and three copies of the full proposal (program and budget narratives, application forms and assurances). The original should have the applicant's signature in blue ink.

Authority: Public Law 93-415.

Funds Available: Up to $125,000 is available for this project, subject to available funding, but preference will be given to applicants who provide the most cost efficient solutions in accomplishing the scope of work. Determination will be made based on best value to the government, not necessarily the lowest bid. Funds may be used only for the activities that are directly related to the project.

This project will be a collaborative venture with the NIC Community Services Division.

Eligibility of Applicants: An eligible applicant is any public or private agency, educational institution, organization, individual, or team with expertise in the described areas.

Required Expertise: Successful applicants must be able to demonstrate that they have the organizational capacity to carry out the deliverables of this project. Appropriate expertise may include extensive experience in correctional and criminal justice policy and practice, and a strong background in criminal justice systemwide change with expertise in the implementation of evidence-based practices in pretrial release without an over reliance on financial release conditions.

Review Considerations: Applications received under this announcement will be subject to the NIC Review Process. The criteria for the evaluation of each application will be as follows:

Program Narrative: (50%).

Are all of the project tasks adequately discussed? Is there a clear statement of how each task will be accomplished, including the staffing, resources, and strategies to be employed? Are there any innovative approaches, techniques, or design aspects proposed that will enhance the project?

Organizational Capabilities: (25%).

Do the skills, knowledge, and expertise of the applicant(s) and the proposed project staff demonstrate a high level of competency to complete the tasks? Does the applicant have the necessary experience and organizational capacity to complete the goals of the project?

Program Management/Administration: (25%).

Does the applicant identify reasonable objectives, milestones, and measures to track progress? If there are consultants and/or partnerships proposed, is there a clear structure to ensure effective utilization and coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, dial 1-866-705-5711 and select option 1).

Registration in the CCR can be done online at the CCR Web site at http://www.ccr.gov. A CCR Handbook and worksheet can also be reviewed at the Web site.

Number of Awards: One.

NIC Opportunity Number: 12CS10. This number should appear as a reference line in the cover letter, where indicated on Standard Form 424, and outside of the envelope in which the application is sent.

Catalog of Federal Domestic Assistance Number: 16.603.

Executive Order 12372: This program is subject to the provisions of Executive Order 12372. E.O. 12372 allows states the option of setting up a system for reviewing applications from within their states for assistance under certain federal programs. Applicants (other than federally recognized Indian tribal governments) should contact their state Single Point of Contact (SPOC), a list of which is available at http://www.whitehouse.gov/omb/grants/spoc.html.

Morris L. Thigpen,
Director, National Institute of Corrections.

[FR Doc. 2012-16786 Filed 7-9-12; 8:45 am]

BILLING CODE 4410-36-P